DEPARTMENT OF EDUCATION

[Docket No.: ED-2020-SCC-0184]

Notice of Revision to the National Assessment of Educational Progress Survey by Suspending Data Collection for 2021

AGENCY: National Center for Education Statistics (NCES), Department of Education (ED).

ACTION: Notice of change to data collection.

SUMMARY: This notice announces the intention of the National Center for Education Statistics (NCES) not to collect student assessment data for the currently approved information collection, the National Assessment of Educational Progress, originally planned for January-March 2021.

DATES: Interested persons are invited to submit comments on or before January 11, 2021.

ADDRESSES: To access and review all the documents related to the information collection listed in this notice, please use http://www.regulations.gov by searching the Docket ID number ED-2020-SCC-0184. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the Director of the Strategic Collections and Clearance Governance and Strategy Division, U.S. Department of Education, 400 Maryland Ave. SW, LBJ, Room 6W208B, Washington, DC 20202-8240.

FOR FURTHER INFORMATION CONTACT: For specific questions related to collection activities, please contact James L. Woodworth, Commissioner, National Center for Education Statistics, or email NCES.Information.Collections@ed.gov.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: National Assessment of Educational Progress.

OMB Control Number: 1850-NEW (relates to 1850-0928).

Type of Request: To suspend a portion of a currently approved information collection.

Abstract: The National Assessment of Educational Progress (NAEP), conducted by the National Center for Education Statistics (NCES), is a federally authorized survey of student achievement at grades 4, 8, and 12 in various subject areas, such as mathematics, reading, writing, science, U.S. history, civics, geography, economics, technology and engineering literacy (TEL), and the arts. It requires fair and accurate presentation of achievement data and permits the collection of background, noncognitive, or descriptive information that is related to academic achievement and aids in fair reporting of results. The intent of the law is to provide representative sample data on student achievement for the nation, the states, and subpopulations of students and to monitor progress over time.

NCES has determined that it cannot at this time conduct a national-level assessment (20 U.S.C. 9622(b)(2)(A)) in a manner with sufficient validity and reliability to meet the mandate of the law due to school closures resulting from the ongoing coronavirus pandemic. The NAEP assessments are a key indicator of educational progress in the United States with trends going back decades. The change in operations and lack of access to students to be assessed means that NAEP will not be able to produce estimates of what students know and can do that would be comparable to either past or future national or state estimates. Therefore, NCES will not be collecting student assessment data in January through March 2021 as originally planned. NCES will continue to provide public updates on any further changes to the NAEP assessments through our NAEP COVID-19 Planning and Resources web page, found here: https://nces.ed.gov/nationsreportcard/about/covid19.aspx.

Authority: The National Assessment of Educational Progress Authorization Act (Pub. L. 107-279 Title III, section 303) requires the assessment to collect data on specified student groups and characteristics, including information organized by race/ethnicity, gender, socio-economic status, disability, and limited English proficiency.

Estimate of Burden: There will be no further public reporting burden for this collection of information.

Dated: December 7, 2020.
Stephanie Valentine,
PRA Coordinator, Strategic Collections and Clearance Governance and Strategy Division Office of Chief Data Officer, Office of Planning, Evaluation and Policy Development.

[FR Doc. 2020-27153 Filed 12-9-20; 8:45 am]

BILLING CODE 4000-01-P